COMMITTEE FOR THE IMPLEMENTATION OF TEXTILE AGREEMENTS

Determination under the Textile and Apparel Commercial Availability Provision of the Dominican Republic-Central America-United States Free Trade Agreement (CAFTA-DR Agreement)

June 2, 2009.

AGENCY: The Committee for the Implementation of Textile Agreements.

ACTION: Determination to add a product in unrestricted quantities to Annex 3.25 of the CAFTA-DR Agreement.

EFFECTIVE DATE: June 5, 2009.

SUMMARY: The Committee for the Implementation of Textile Agreements (CITA) has determined that certain cotton-polyester circular knit fleece fabric, as specified below, is not available in commercial quantities in a timely manner in the CAFTA-DR countries. The product will be added to the list in Annex 3.25 of the CAFTA-DR Agreement in unrestricted quantities.

FOR FURTHER INFORMATION CONTACT: Maria Dybczak, Office of Textiles and Apparel, U.S. Department of Commerce, (202) 482-3651.

FOR FURTHER INFORMATION ON-LINE: http://web.ita.doc.gov/tacgi/CaftaReqTrack.nsf. Reference number: 109.2009.04.24.Fabric.ST&RforGaran Mfg.

SUPPLEMENTARY INFORMATION:

Authority: The CAFTA-DR Agreement; Section 203(o)(4) of the Dominican Republic-Central America-United States Free Trade Agreement Implementation Act (CAFTA-DR Implementation Act), Pub. Law 109-53; the Statement of Administrative Action (SAA), accompanying the CAFTA-DR Implementation Act; Presidential Proclamations 7987 (February 28, 2006) and 7996 (March 31, 2006).

BACKGROUND:

The CAFTA-DR Agreement provides a list in Annex 3.25 for fabrics, yarns, and fibers that the Parties to the CAFTA-DR Agreement have determined are not available in commercial quantities in a timely manner in the territory of any Party. The CAFTA-DR Agreement provides that this list may be modified pursuant to Article 3.25(4)-(5), when the President of the United States determines that a fabric, yarn, or fiber is not available in commercial quantities in a timely manner in the territory of any Party. See Annex 3.25 of the CAFTA-DR Agreement; see also section 203(o)(4)(C) of the CAFTA-DR Act.

The CAFTA-DR Implementation Act requires the President to establish procedures governing the submission of a request and providing opportunity for interested entities to submit comments and supporting evidence before a commercial availability determination is made. In Presidential Proclamations 7987 and 7996, the President delegated to CITA the authority under section 203(o)(4) of CAFTA-DR Implementation Act for modifying the Annex 3.25 list. On September 15, 2008, CITA published modified procedures it would follow in considering requests to modify the Annex 3.25 list of products determined to be not commercially available in the territory of any Party to CAFTA-DR (Modifications to Procedures for Considering Requests Under the Commercial Availability Provision of the Dominican Republic-Central America-United States Free Trade Agreement, 73 FR 53200, September 15, 2008) (”procedures“).

On April 24, 2009, the Chairman of CITA received a Request for a Commercial Availability Determination (“Request”) from Sandler, Travis & Rosenberg, P.A., on behalf of Garan Manufacturing Corp., for certain cotton-polyester circular knit fleece fabric. On April 28, 2009, in accordance with CITA's procedures, CITA notified interested parties of the Request, which was posted on the dedicated website for CAFTA-DR Commercial Availability proceedings. In its notifications, CITA advised that a Response with an Offer to Supply (“Response”) to the Request must be submitted by May 8, 2009, and any Rebuttal to a Response (“Rebuttal”) be submitted by May 14, 2009. On May 8, 2009, Elasticos Centroamericanos y Textile S.A. de C.V. (“Elcatex”) submitted a Response. On May 14, 2009, Garan Manufacturing Corp. submitted its Rebuttal.

In accordance with Section 203(o) of the CAFTA-DR Implementation Act, Article 3.25 of the CAFTA-DR, and Section 8(c)(4) of CITA's procedures, should CITA determine that it has insufficient information to make a determination, CITA will extend its time period for consideration of the Request by an additional 14 U.S. business days. As the requestor and respondent disagreed on the respondent's ability to supply the subject product, on May 20, 2009, the Chairman determined that there was insufficient information to recommend a determination, and therefore extended the deadline by an additional 14 U.S. business days. On May 27, 2009, Elcatex submitted a letter of withdrawal from the proceeding. As a result, there is no Response to the pending Request for CITA's consideration.

In accordance with section 203(o)(4)(C) of the CAFTA-DR Implementation Act, and Section 8(c)(2) of CITA's procedures, as no interested entity submitted a Response objecting to the Request and demonstrating its ability to supply the subject product, CITA has determined to add the specified fabric to the list in Annex 3.25 of the CAFTA-DR Agreement.

The subject product has been added to the list in Annex 3.25 of the CAFTA-DR Agreement in unrestricted quantities. A revised list has been posted on the dedicated website for CAFTA-DR Commercial Availability proceedings.

Specifications: Certain Cotton-Polyester Circular Knit Fleece Fabric
HTSUS: 6001.21
Fiber Content: 67-73% cotton / 27-33% polyester
Average Yarn Number:
Face yarn - 100% combed cotton; 47/1 to 58/1 metric (28/1 to 34/1)
Tie yarn - 100% filament polyester, 110-125 metric/ 36 filaments; (72-82 denier / 36 filaments)
Fleece yarn - 57-63% combed cotton/37-43% polyester; 12/1 to 24/1 metric (7/1 to 14/1)
Gauge: 20
Weight: 271 to 300 grams per square meter (8.0 to 8.85 ounces per square yard)
Width: 152 to 183 centimeters (60 to 72 inches)
Finish: (Piece) dyed; printed
In addition, technical back must be heavily napped to produce a fabric thickness of not less than 4.5 millimeters, including the napped pile. Additionally, a portion of the fabric is brushed on the technical face to produce a sueded hand and appearance and a portion is treated with a stain release finish. Finally, the following performance criteria must be satisfied:
- Vertical and horizontal shrinkage must be less than 5%
- Torque may not exceed 4%
- All fabrics must have a Class 1 flammability rating
- For optimum fabric integrity and stitch definition, this fabric must be knit on machines whose number of yarn feeds is a multiple of 3.

Janet E. Heinzen,
Acting Chairman, Committee for the Implementation of Textile Agreements.

[FR Doc. E9-13168 Filed 6-4-09; 8:45 am]

BILLING CODE 3510-DS-S